Memorandum of May 18, 2006

Assignment of Functions Relating to Waivers and Reports Concerning Africa

Memorandum for the Secretary of state [and] the Attorney General

By the authority vested in me by the Constitution and laws of the United States, including section 301 of title 3, I hereby assign to the Secretary of State the functions of the President under section 590 of the Foreign Operations, Export Financing, and Related Programs Appropriations Act, 2006 (Public Law 109-102). The Secretary of State shall consult the Attorney General as appropriate in the performance of such functions.

The Secretary of State is authorized and directed to publish this memorandum in the Federal Register.

B

THE WHITE HOUSE,

Washington, May 18, 2006.

[FR Doc. 06-4930

Filed 5-25-06; 8:45 am]

Billing code 4710-10-P